DEPARTMENT OF HEALTH AND HUMAN SERVICES

Substance Abuse and Mental Health Services Administration

Agency Information Collection Activities: Submission for the Office of Management and Budget (OMB) Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-0361.

Project: Revision of Mental Health Client/Participant Outcome Measures and Infrastructure, Prevention, and Promotion Indicators (OMB No. 0930-0285)

SAMHSA is requesting approval from the Office of Management and Budget (OMB) for a revision to extend the expiration date for the previously approved instruments and data collection activities for the Center Mental Health Services Mental Health Client/Participant Outcome Measures and Infrastructure, Prevention, and Promotion Indicators (OMB No 0930-0285) that expires on March 30, 2025.

To be fully accountable for the spending of Federal funds, SAMHSA requires all programs to collect and report data to ensure that program goals and objectives are met. Data are collected and used to monitor and improve performance of each program and ensure appropriate and thoughtful spending of Federal funds.

SAMHSA requests to continue using and extend the expiration date for the currently approved Client-level Mental Health Client/Participant Outcome measures and Infrastructure, Prevention, and Promotion indicators and to extend the expiration date.

These two data collections maintain capacity and requirements to report qualitative performance and quantitative outcomes for all Center for Mental Health Services discretionary grant programs, including: demographic characteristics of clients served; social determinants of health of clients served before, during, and at end of services; numbers of clients served; and process measures, outputs, outcomes, of grant program required activities.

Currently, the information collected from these data collections is entered and stored on SAMHSA's Performance Accountability and Reporting System (SPARS), which is a real-time, performance management system that captures information on mental health and substance abuse treatment services delivered in the United States through discretionary grantees. Continued approval of this information collection will allow SAMHSA to continue to meet Government Performance and Results Modernization Act of 2010 (GPRMA) reporting requirements that quantify the effects and accomplishments of its discretionary grant programs, which are consistent with OMB guidance.

SAMHSA and its Centers will use the data collected for annual reporting required by GPRMA, to describe clients and individuals served and to summarize outputs and outcomes of grant program activities. SAMHSA and its Centers will use the data for annual reporting. SAMHSA's report for each fiscal year will include actual results of performance monitoring for the three preceding fiscal years. Information collected through this request will allow SAMHSA to report on the results of these performance outcomes as well as be consistent with SAMHSA-specific performance domains, and to assess the accountability and performance of its discretionary grant programs. The information collected through this request will allow SAMHSA to improve its ability to assess the impact of its programs on key outcomes of interest and to gather vital descriptive characteristics about clients served by discretionary grant programs.

Currently, there are 76,209 total burden hours in the two data collections. SAMHSA is requesting an increase to 139,178 hours to account for additional grantees having reporting requirements and to account more fully for the time needed to report quarterly on the IPP indicators. The proposed estimate of time to collect data and complete the instruments is shown in table 1.

Table 1—Estimates of Annualized Hour Burden
SAMHSA tool | Number of respondents | Responses per respondent | Total responses | Hours per response | Total hour burden
Client-level baseline assessment—interview | 75,600 | 1 | 75,600 | 0.3 | 22,680
Client-level baseline assessment—administrative | 84,000 | 1 | 84,000 | 0.1 | 8,400
Client-level 3- or 6-month reassessment—interview | 53,760 | 1 | 53,760 | 0.3 | 16,128
Client-level 3- or 6-month reassessment—administrative | 67,200 | 1 | 67,200 | 0.1 | 6,720
Client-level discharge assessment—interview | 12,500 | 1 | 12,500 | 0.3 | 3,750
Client-level discharge assessment—administrative | 25,000 | 1 | 25,000 | 0.1 | 2,500
Section H Program Specific Data: baseline, 3- or 6-month reassessment, and clinical discharge | 75,000 | 2 | 150,000 | 0.1 | 15,000
Subtotal | 393,060 |  | 468,060 |  | 75,178
Infrastructure development, prevention, and mental health promotion quarterly record abstraction | 2,000 | 4 | 8,000 | 8 | 64,000
Subtotal | 2,000 |  | 8,000 |  | 64,000
Total | 395,060 |  | 476,060 |  | 139,178

Send comments to SAMHSA Reports Clearance Officer at samhsapra@samhsa.hhs.gov.

Written comments should be received by September 16, 2024.

Alicia Broadus,
Public Health Advisor.

[FR Doc. 2024-15811 Filed 7-17-24; 8:45 am]

BILLING CODE 4162-20-P